SMALL BUSINESS ADMINISTRATION

13 CFR Part 121

[Docket No. 04-11579]

RIN 3245-AE66

Small Business Size Regulations; Correction

AGENCY: U.S. Small Business Administration.

ACTION: Final rule; correcting amendments.

SUMMARY: This document contains a correction to the final rule that appeared in the Federal Register of May 24, 2004 (69 FR 29411). The final rule amended the regulations that governed the Historically Underutilized Business Zone (HUBZone) Program. The corrected provision concerns who may initiate a size protest or initiate a size determination.

DATES: Effective June 23, 2004.

FOR FURTHER INFORMATION CONTACT: Michael P. McHale, Associate Administrator for the HUBZone Program, (202) 205-8885 or by e-mail, at hubzone@sba.gov.

SUPPLEMENTARY INFORMATION: The final rule that is the subject of this correction amends the regulations that governed the Historically Underutilized Business Zone (HUBZone) Program published on May 24, 2004 (69 FR 29411). This document corrects the numbering of a section of the final regulation. Confusion was caused by another amendment to the relevant section by a final rule amending certain definitions and making procedural and technical amendments to several SBA programs published on May 21, 2004 (69 FR 29192). The rule revised is § 121.1001(b)(7-8). Who may initiate a size protest or request a formal size determination?

List of Subjects in 13 CFR Part 121

Government procurement, Government property, Grant programs—business, Load programs—business, Small businesses.

Accordingly, 13 CFR part 121 is corrected by making the following correcting amendment:

PART 121—SMALL BUSINESS SIZE REGULATIONS

1. The authority section for part 121 continues to read as follows:

Authority: 15 U.S.C. 632(a), 634(b)(6), 636(b), 637(a), 644(c) and 662(5); Sec. 304, Pub. L., 103-403, 108 Stat. 4175, 4188; Pub. L. 105-135 sec 601 et seq., 111 Stat. 2592; Pub. L. 106-24, 113 Stat. 39.

2. Amend § 121.1001 by revising paragraphs (b)(7) and (8) and removing the paragraph (b)(7) published at 69 FR 29411, May 24, 2004, to read as follows:

§ 121.1001 Who may initiate a size protest or request a formal size determination?

* * * * *

(b) * * *

(7) In connection with initial or continued eligibility for the Small Disadvantaged Business (SDB) program, the following may request a formal size determination:

(i) The applicant or SDB concern; or

(ii) The Assistant Administrator of the Division of Program Certification and Eligibility or the Associate Administrator for 8(a)BD.

(8) In connection with initial or continued eligibility for the HUBZone program, the following may request a formal size determination:

(i) The applicant or qualified HUBZone business concern; or

(ii) The Associate Administrator for the HUBZone program, or designee.

* * * * *

Dated: June 24, 2004.
Allegra F. McCullough,
Associate Deputy Administrator for Government Contracting and Business Development.

[FR Doc. 04-16883 Filed 7-23-04; 8:45 am]

BILLING CODE 8025-01-P